DEPARTMENT OF TRANSPORTATION

Federal Aviation Administration

Public Notice for Waiver of Aeronautical Land Use Assurance Astoria Regional Airport, Astoria, Oregon

AGENCY: Federal Aviation Administration, (FAA), DOT.

ACTION: Notice.

SUMMARY: Notice is being given that the FAA is considering a proposal from the Port of Astoria Airport Director to change certain portions of the airport from aeronautical use to non-aeronautical use at Astoria Regional Airport, Astoria, Oregon. The proposal consists of three parcels on the south side of the airfield.

DATES: Comments are due within 30 days of the date of the publication of this notice in the Federal Register. Written comments can be provided to Ms. Mandi M. Lesauis, Program Specialist, Seattle Airports District Office, 2200 S. 216th St., Des Moines, Washington.

FOR FURTHER INFORMATION CONTACT: Mr. Matt McGrath, Airport Director, Port of Astoria, 10 Pier 1, Ste. 103, Astoria, OR 97103; or Mandi M. Lesauis, Program Specialist, Seattle Airports District Office, 2200 S. 216 St., Des Moines, WA 98198, (206) 231-4140. Documents reflecting this FAA action may be reviewed at the above locations.

SUPPLEMENTARY INFORMATION: Under the provisions of Title 49, U.S.C. 47153(c), and 47107(h)(2), the FAA is considering a proposal from the Airport Director, Port of Astoria, to change a portion of the Astoria Regional Airport from aeronautical use to non-aeronautical use. The proposal consists of a 3-acre parcel on the south side of the airport.

The parcels are vacant, landlocked and do not have airfield access. The proposed property will be developed as a protein processing plant. The FAA concurs that the parcels are no longer needed for aeronautical purposes. The proposed use of this property is compatible with other airport operations in accordance with FAA's Policy and Procedures Concerning the Use of Airport Revenue, published in Federal Register on February 16, 1999.

Issued in Des Moines, Washington on January 11, 2021.
William C. Garrison,
Acting Manager, Seattle Airports District Office.

[FR Doc. 2021-00776 Filed 1-14-21; 8:45 am]

BILLING CODE 4910-13-P